DEPARTMENT OF HEALTH AND HUMAN SERVICES

Administration for Children and Families

Proposed Information Collection Activity; Comment Request

Proposed Projects: Conduct an electronic survey of 2012-funded Family Connection grantees to collect process evaluation data to include as part of the Cross-Site Evaluation.

Title: Cross-site Evaluation Survey 2012 Family Connection Grantees.

OMB No.: New.

Description: In the interest of providing as complete an evaluation report as possible by the end of FY15, the Children's Bureau has directed the contractor conducting the Cross-site Evaluation to adopt the most efficient means possible to collect process evaluation data from grantees. The proposed electronic survey will replace originally planned in-person and telephone discussions with electronic surveys. This will enable collection of key information on project design, implementation, maintenance, and sustainability from key grantee representatives in an abbreviated amount of time. The quantitative nature of the surveys will enable rapid data analysis and reporting.

Respondents: The Cross-site Evaluation addresses a total of seventeen (17) Family Connection grantees. Four categories of participants will be surveyed: Project Leadership, Service Providers, Project Partners (public child welfare and community agencies), and Evaluators. For each grantee, an average of 20 respondents is anticipated: 4 project leadership, 9 service providers, 2 public child welfare agency representatives, 2 community partner representatives, and 3 evaluators. These numbers of participants, per category, are used in the table below to calculate the number of respondents, across the 17 projects to be surveyed. Differences in burden estimates for the different instruments reflect the number of questions in each.

Annual Burden Estimates
Instrument | Number of respondents | Number of responses per respondent | Average burden hours per response | Total burden hours
Project Leadership Protocol | 79 | 1 | .75 | 59.25
Service Provider Protocol | 153 | 1 | .5 | 76.5
Public Child Welfare Partner Protocol | 34 | 1 | .25 | 8.5
Community Partner Protocol | 34 | 1 | .25 | 8.5
Evaluator Protocol | 51 | 1 | .75 | 38.25
Estimated Total Annual Burden Hours |  |  |  | 191.00

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-26667 Filed 11-10-14; 8:45 am]

BILLING CODE 4184-01-P